NUCLEAR REGULATORY COMMISSION

[NRC-2018-0164]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from July 17, 2018, to July 30, 2018. The last biweekly notice was published on July 31, 2018.

DATES: Comments must be filed by September 13, 2018. A request for a hearing must be filed by October 15, 2018.

ADDRESSES: You may submit comments by any of the following methods:

• Federal Rulemaking website: Go to http://www.regulations.gov and search for Docket ID NRC-2018-0164. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington DC 20555-0001; telephone: 301-415-2242; email Paula.Blechman@nrc.gov.

SUPPLEMENTARY INFORMATION:

I. Obtaining Information and Submitting Comments

A. Obtaining Information

Please refer to Docket ID NRC-2018-0164, facility name, unit number(s), plant docket number, application date, and subject when contacting the NRC about the availability of information for this action. You may obtain publicly-available information related to this action by any of the following methods:

• Federal Rulemaking website: Go to http://www.regulations.gov and search for Docket ID NRC-2018-0164.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0164, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in section 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station, Unit Nos. 1, 2, and 3, Maricopa County, Arizona

Date of amendment request: July 31, 2015, as supplemented by letters dated April 11, 2016; November 3, 2017; May 18, 2018; and June 1, 2018. Publicly-available versions are in ADAMS under Accession Nos. ML15218A300, ML16102A463, ML17307A188, ML18138A480, and ML18152B874, respectively.

Description of amendment request: The amendments would modify the technical specification (TS) requirements related to Completion Times (CTs) for Required Actions to provide the option to calculate longer, risk-informed CTs. The methodology for using the Risk Informed Completion Time (RICT) Program is described in Nuclear Energy Institute (NEI) topical report NEI 06-09, “Risk-Informed Technical Specifications Initiative 4b, Risk-Managed Technical Specifications (RMTS) Guidelines,” Revision 0-A (ADAMS Accession No. ML12286A322), which was approved by the NRC on May 17, 2007. The license amendment request (LAR) was originally noticed in the Federal Register on December 8, 2015 (80 FR 76317). The licensee originally proposed to adopt, with plant-specific variations, Technical Specifications Task Force (TSTF) Traveler TSTF-505, Revision 1, “Provide Risk-Informed Extended Completion Times—RITSTF [Risk Informed TSTF] Initiative 4b” (ADAMS Accession No. ML111650552). By letter dated November 15, 2016 (ADAMS Accession No. ML16281A021), the NRC staff informed the TSTF of its decision to suspend NRC approval of TSTF-505, Revision 1, because of concerns identified during the review of plant-specific LARs for adoption of the traveler. The NRC staff's letter also stated that it would continue reviewing applications already received and site-specific proposals to address the staff's concerns. Although the scope of the amendment request has not changed, the basis for the amendments will no longer rely on TSTF-505. This notice is being reissued in its entirety to include the revised description of the amendment request. The proposed no significant hazards consideration determination is identical to the one published in the Federal Register on December 8, 2015.

Basis for proposed no significant hazards consideration determination: As required by 10 CFR 50.91(a), the licensee has provided its analysis of the issue of no significant hazards consideration, which is presented below:

1. Does the proposed change involve a significant increase in the probability or consequences of an accident previously evaluated?

Response: No.

The proposed change permits the use of RICTs provided the associated risk is assessed and managed in accordance with the NRC-accepted RICT Program. The proposed use of RICTs does not involve a significant increase in the probability of an accident previously evaluated because the change only affects TS Conditions, Required Actions and CTs associated with risk informed technical specifications and does not involve changes to the plant, its modes of operation, or TS mode applicability. The proposed license amendment references regulatory commitments to achieve the baseline PRA [probabilistic risk assessment] risk metrics specified in the NRC model evaluation. The changes proposed by regulatory commitments will be implemented under the requirements of 10 CFR 50.59 without the need for prior NRC approval. The proposed change does not increase the consequences of an accident because the accident mitigation functions of the affected systems, structures, or components (SSCs) are not changed.

Therefore, the proposed change does not involve a significant increase in the probability or consequences of an accident previously evaluated.

2. Does the proposed change create the possibility or different kind of accident from any accident previously evaluated?

Response: No.

The proposed change permits the use of RICTs provided the associated risk is assessed and managed in accordance with the NRC-accepted RICT Program. The proposed use of RICTs does not create the possibility of a new or different kind of accident from any accident previously evaluated because the change only affects TS Conditions, Required Actions and CTs associated with risk informed technical specifications. The proposed change does not involve a physical alteration of the plant and does not involve installation of new or different kind of equipment. The proposed license amendment references regulatory commitments to achieve the baseline PRA risk metrics specified in the NRC model evaluation. The changes proposed by regulatory commitments will be implemented under the requirements of 10 CFR 50.59 without the need for prior NRC approval. The proposed change does not alter the accident mitigation functions of the affected SSCs and does not introduce new or different SSC failure modes than already evaluated.

Therefore, the proposed change does not create the possibility of a new or different kind of accident from any accident previously evaluated.

3. Does the proposed change involve a significant reduction in a margin of safety?

Response: No.

The proposed change permits the use of RICTs provided the risk levels associated with inoperable equipment within the scope of the RICT program are assessed and managed in accordance with the NRC approved RICT Program. The proposed change implements a risk-informed Configuration Risk Management Program (CRMP) to assure that adequate margins of safety are maintained. Application of these new specifications and the CRMP considers cumulative effects of multiple systems or components being out of service and does so more effectively than the current TS. In this regard, the implementation of the CRMP is considered an improvement in safety.

Therefore, the proposed change does not involve a significant reduction in a margin of safety.

The NRC staff has reviewed the licensee's analysis and, based on that review, it appears that the three standards of 10 CFR 50.92(c) are satisfied. Therefore, the NRC staff proposes to determine that the requested amendments involves no significant hazards consideration.

Attorney for licensee: Michael G. Green, Senior Regulatory Counsel, Pinnacle West Capital Corporation, P.O. Box 52034, Mail Station 8695, Phoenix, Arizona 85072-2034.

NRC Branch Chief: Robert J. Pascarelli.

DTE Electric Company, Docket No. 50-341, Fermi 2, Monroe County, Michigan

Date of amendment request: March 14, 2018. A publicly-available version is in ADAMS under Accession No. ML18073A137.

Description of amendment request: The proposed amendment modifies the technical specification definition of “Shutdown Margin” (SDM) to require calculation of the SDM at a reactor moderator temperature of 68 degrees Fahrenheit (°F) per hour or a higher temperature that represents the most reactive state throughout the operating cycle. This change is needed to address new boiling water reactor (BWR) fuel designs, which may be more reactive at shutdown temperatures above 68 °F.

Basis for proposed no significant hazards consideration determination: As required by 10 CFR 50.91(a), the licensee has provided its analysis of the issue of no significant hazards consideration, which is presented below:

1. Does the proposed change involve a significant increase in the probability or consequences of an accident previously evaluated?

Response: No.

The proposed change revises the definition of SDM. SDM is not an initiator to any accident previously evaluated. Accordingly, the proposed change to the definition of SDM has no effect on the probability of any accident previously evaluated. SDM is an assumption in the analysis of some previously evaluated accidents and inadequate SDM could lead to an increase in consequences for those accidents. However, the proposed change revises the SDM definition to ensure that the correct SDM is determined for all fuel types at all times during the fuel cycle.

As a result, the proposed change does not adversely affect the consequences of any accident previously evaluated.

Therefore, the proposed change does not involve a significant increase in the probability or consequences of an accident previously evaluated.

2. Does the proposed change create the possibility of a new or different kind of accident from any accident previously evaluated?

Response: No.

The proposed change revises the definition of SDM. The change does not involve a physical alteration of the plant (i.e., no new or different type of equipment will be installed) or a change in the methods governing normal plant operations. The change does not alter assumptions made in the safety analysis regarding SDM.

Therefore, the proposed change does not create the possibility of a new or different kind of accident from any accident previously evaluated.

3. Does the proposed change involve a significant reduction in a margin of safety?

Response: No.

The proposed change revises the definition of SDM. The proposed change does not alter the manner in which safety limits, limiting safety system settings or limiting conditions for operation are determined. The proposed change ensures that the SDM assumed in determining safety limits, limiting safety system settings or limiting conditions for operation is correct for all BWR fuel types at all times during the fuel cycle. Therefore, the proposed change does not involve a significant reduction in a margin of safety.

The NRC staff has reviewed the licensee's analysis and based on this review, it appears that the three standards of 10 CFR 50.92(c) are satisfied. Therefore, the NRC staff proposes to determine that the amendment request involves no significant hazards consideration.

Attorney for licensee: Jon P. Christinidis, DTE Energy, Expert Attorney—Regulatory, 688 WCB, One Energy Plaza, Detroit, MI 48226-1279.

NRC Branch Chief: David J. Wrona.

Duke Energy Carolinas, LLC, Docket Nos. 50-413 and 50-414, Catawba Nuclear Station, Unit Nos. 1 and 2 (CNS), York County, South Carolina

Duke Energy Carolinas, LLC, Docket Nos. 50-369 and 50-370, McGuire Nuclear Station, Unit Nos. 1 and 2 (MNS), Mecklenburg County, North Carolina

Duke Energy Carolinas, LLC, Docket Nos. 50-269, 50-270, and 50-287, Oconee Nuclear Station, Unit Nos. 1, 2, and 3 (ONS), Oconee County, South Carolina

Duke Energy Progress, LLC, Docket Nos. 50-325 and 50-324, Brunswick Steam Electric Plant (BNP), Unit Nos. 1 and 2, Brunswick County, North Carolina

Duke Energy Progress, LLC, Docket No. 50-261, H. B. Robinson Steam Electric Plant, Unit No. 2 (RNP), Darlington County, South Carolina

Duke Energy Progress, LLC, Docket No. 50-400, Shearon Harris Nuclear Power Plant, Unit 1 (HNP), Wake County, North Carolina

Date of amendment request: June 20, 2018. A publicly-available version is in ADAMS under Accession No. ML18172A315.

Description of amendment request: The amendments would revise the Emergency Action Levels (EALs) for CNS, MNS, ONS, BNP, HNP, and RNP consistent with Emergency Preparedness Frequently Asked Questions (EPFAQs) 2015-013 (EAL HG1.1) and 2016-002 (EALs CA6.1 and SA9.1 (SA8.1 for BNP)). The amendments would revise the EALs for HNP and RNP consistent with EPFAQ 2015-014 (EAL HS6.1).

Basis for proposed no significant hazards consideration determination: As required by 10 CFR 50.91(a), the licensee has provided its analysis of the issue of no significant hazards consideration, which is presented below:

1. Does the proposed change involve a significant increase in the probability or consequences of an accident previously evaluated?

Response: No.

The proposed changes to EALs HG1.1, CA6.1, SA9.1 (SA8.1 for BNP), and HS6.1 do not reduce the capability to meet the emergency planning requirements established in 10 CFR 50.47 and 10 CFR [Part] 50, Appendix E. The proposed changes do not reduce the functionality, performance, or capability of Duke Energy's Emergency Response Organization (ERO) to respond in mitigating the consequences of any design basis accident. The proposed changes do not involve any physical changes to plant equipment or systems, nor do they alter the assumptions of any accident analyses. The proposed changes do not adversely affect accident initiators or precursors nor do they alter the design assumptions, conditions, and configuration or the manner in which the plants are operated and maintained. The proposed changes do not adversely affect the ability of Structures, Systems, or Components (SSCs) to perform their intended safety functions in mitigating the consequences of an initiating event within the assumed acceptance limits. There is no impact on the source term or pathways assumed in accidents previously assumed. No analysis assumptions are violated and there are no adverse effects on the factors that contribute to offsite or onsite dose as the result of an accident.

Therefore, the proposed changes do not involve a significant increase in the probability or consequences of an accident previously evaluated.

2. Does the proposed change create the possibility of a new or different kind of accident from any accident previously evaluated?

Response: No.

The proposed changes to EALs HG1.1, CA6.1, SA9.1 (SA8.1 for BNP), and HS6.1 do not involve any physical changes to plant systems or equipment. The proposed changes do not involve the addition of any new plant equipment. The proposed changes will not alter the design configuration, or method of operation of plant equipment beyond its normal functional capabilities. All Duke Energy ERO functions will continue to be performed as required. The proposed changes do not create any new credible failure mechanisms, malfunctions, or accident initiators.

Therefore, the proposed changes do not create the possibility of a new or different kind of accident from any accident previously evaluated.

3. Does the proposed change involve a significant reduction in a margin of safety?

Response: No.

Margin of safety is related to the confidence in the ability of the fission product barriers to perform their design functions during and following an accident. These barriers include the fuel cladding, the reactor coolant system, and the containment system.

The proposed changes to EALs HG1.1, CA6.1, SA9.1 (SA8.1 for BNP), and HS6.1 do not alter or exceed a design basis or safety limit. There is no change being made to safety analysis assumptions, safety limits, or limiting safety system settings that would adversely affect plant safety as a result of the proposed changes. There are no changes to setpoints or environmental conditions of any SSC or the manner in which any SSC is operated. Margins of safety are unaffected by the proposed changes. The applicable requirements of 10 CFR 50.47 and 10 CFR [Part] 50, Appendix E will continue to be met.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, Duke Energy Corporation, 550 South Tryon Street, Mail Code DEC45A, Charlotte NC 28202.

NRC Acting Branch Chief: Booma Venkatamaraman.

Entergy Nuclear Operations, Inc., Docket No. 50-255, Palisades Nuclear Plant (PNP), Van Buren County, Michigan

Date of amendment request: May 30, 2018. A publicly-available version is in ADAMS under Accession No. ML18152A922.

Description of amendment request: The proposed amendment would revise the PNP Technical Specification (TS) 3.3.5, “Diesel Generator (DG)—Undervoltage Start (UV Start),” Surveillance Requirement (SR) 3.3.5.2a by adding a channel calibration requirement for the combined time delay setpoints for the degraded voltage sensing relay and the degraded voltage time delay relay.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would revise a TS SR to include, for each degraded voltage channel, calibration of the time delay setpoint for the degraded voltage sensing relay in combination with the setpoint for the time delay relay. The minimum time delay setpoint in the revised TS SR would be long enough to override any brief voltage disturbances. The maximum time delay setpoint in the revised TS SR would be short enough to not exceed the maximum time delays assumed in the PNP Final Safety Analysis Report accident analyses for the operation of safety related equipment and to not result in failure of safety related equipment due to sustained degraded voltage conditions. Therefore, safety related loads would be available to perform their required safety functions under these conditions.

The proposed change does not adversely affect accident initiators or precursors, and does not affect the design assumptions, conditions, or configuration of the plant, or the manner in which the plant is operated or maintained.

Therefore, the proposed amendment does not involve a significant increase in the probability or consequences of an accident previously evaluated.

2. Does the proposed amendment create the possibility of a new or different kind of accident from any accident previously evaluated?

Response: No.

The proposed amendment would revise a TS SR to include, for each degraded voltage channel, calibration of the time delay setpoint for the degraded voltage sensing relay in combination with the time delay setpoint for the time delay relay. The conduct of surveillance tests on safety related plant equipment is a means of assuring that the equipment is capable of performing its functions that are credited in the safety analyses for the facility. The proposed amendment would not affect the operation of safety related equipment assumed in accident analyses, and would not create any new failure mechanisms, malfunctions, or accident initiators not considered in the design and licensing bases.

Therefore, the possibility of a new or different kind of accident from any previously evaluated has not been created.

3. Does the proposed amendment involve a significant reduction in a margin of safety?

Response: No.

The proposed amendment would revise a TS SR to include, for each degraded voltage channel, calibration of the time delay setpoint for the degraded voltage sensing relay in combination with the time delay setpoint for the time delay relay. The conduct of surveillance tests on safety related plant equipment is a means of assuring that the equipment is capable of maintaining the margin of safety established in the safety analyses for the facility. The proposed amendment would not introduce changes to limits established in the accident analyses. The minimum time delay setpoint in the revised TS SR would be long enough to override any brief voltage disturbances. The maximum time delay setpoint in the revised TS SR would be short enough to not exceed the maximum time delays assumed in the PNP Final Safety Analysis Report accident analyses for the operation of safety related equipment and to not result in failure of safety related equipment due to sustained degraded voltage conditions.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Jones, Senior Counsel, Entergy Services, Inc., 101 Constitution Ave., NW, Washington, DC 20001.

NRC Branch Chief: David J. Wrona.

Exelon Generation Company, LLC, Docket No. 50-461, Clinton Power Station, Unit No. 1, DeWitt County, Illinois

Exelon Generation Company, LLC, Docket Nos. 50-237 and 50-249, Dresden Nuclear Power Station, Unit Nos. 2 and 3, Grundy County, Illinois

Exelon Generation Company, LLC and Exelon FitzPatrick, LLC, Docket No. 50-333, James A. FitzPatrick Nuclear Power Plant, Oswego County, New York

Exelon Generation Company, LLC, Docket Nos. 50-373 and 50-374, LaSalle County Station, Unit Nos. 1 and 2, LaSalle County, Illinois

Exelon Generation Company, LLC, Docket Nos. 50-352 and No. 50-353, Limerick Generating Station, Unit Nos. 1 and 2, Montgomery County, Pennsylvania

Exelon Generation Company, LLC, Docket Nos. 50-220 and 50-410, Nine Mile Point Nuclear Station, Unit Nos. 1 and 2, Oswego County, New York

Exelon Generation Company, LLC, and PSEG Nuclear LLC, Docket Nos. 50-277 and 50-278, Peach Bottom Atomic Power Station, Unit Nos. 2 and 3, York and Lancaster Counties, Pennsylvania

Exelon Generation Company, LLC, Docket Nos. 50-254 and 50-265, Quad Cities Nuclear Power Station, Unit Nos. 1 and 2, Rock Island County, Illinois

Date of amendment request: June 15, 2018. A publicly-available version is in ADAMS under Accession No. ML18166A197.

Description of amendment request: The amendments would revise the technical specification (TS) requirements associated with the average power range monitors (APRMs).

Basis for proposed no significant hazards consideration determination: As required by 10 CFR 50.91(a), the licensee has provided its analysis of the issue of no significant hazards consideration, which is presented below:

1. Does the proposed change involve a significant increase in the probability or consequences of an accident previously evaluated?

Response: No.

The APRM system and the RPS [reactor protection system] are not initiators of any accidents previously evaluated. As a result, the proposed change does not affect the probability of any accident previously evaluated. The APRM system and the RPS functions act to mitigate the consequences of accidents previously evaluated. The reliability of the APRM system and the RPS is not significantly affected by removing the gain adjustment requirement on the APRM channels when the APRMs are calibrated conservatively with respect to the calculated heat balance. This is because the actual core thermal power at which the reactor will automatically trip is lower, thereby increasing the margin to the core thermal limits and the limiting safety system settings assumed in the safety analyses. The consequences of an accident during the adjustment of the APRM instrumentation are no different from those during the existing surveillance testing period or the existing time allowed to restore the instruments to operable status. As a result, the ability of the APRM system and the RPS to mitigate any accident previously evaluated is not significantly affected.

Therefore, the proposed changes do not involve a significant increase in the probability or consequences of an accident previously evaluated.

2. Does the proposed change create the possibility of a new or different kind of accident from any accident previously evaluated?

Response: No.

The proposed changes do not alter the protection system designs, create new failure modes, or change any modes of operation. The proposed change does not involve a physical alteration of the plant; no new or different kind of equipment will be installed. Consequently, there are no new initiators that could result in a new or different kind of accident.

Therefore, the proposed changes do not create the possibility of a new or different kind of accident from any previously evaluated.

3. Does the proposed change involve a significant reduction in a margin of safety?

Response: No.

The margin of safety provided by the APRM system and the RPS is to ensure that the reactor is shut down automatically when plant parameters exceed the setpoints for the system. Any reduction in the margin of safety resulting from the adjustment of the APRM channels while continuing operation is considered to be offset by delaying a plant shutdown (i.e., a transient) for a short time with the APRM system, the primary indication of core power and an input to the RPS, not calibrated. Additionally, the short time period required for adjustment is consistent with the time allowed by TS to restore the core power distribution parameters to within limits and is acceptable based on the low probability of a transient or design basis accident occurring simultaneously with inaccurate APRM channels.

The proposed changes do not alter setpoints or limits established or assumed by the accident analyses. The TS continue to require operability of the RPS functions, which provide core protection for postulated reactivity insertion events occurring during power operating conditions consistent with the plant safety analyses.

Therefore, the proposed changes do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Exelon Generation Company, LLC, Docket Nos. 50-373 and 50-374, LaSalle County Station, Unit Nos. 1 and 2, LaSalle County, Illinois

Date of amendment request: April 19, 2018. A publicly-available version is in ADAMS under Accession No. ML18157A123.

Description of amendment request: The amendments would revise licenses and the technical specifications (TSs) as follows:

• Division 3 Battery Surveillance Testing

The proposed amendments would revise TS 3.8.4, “DC Sources-Operating,” and TS 3.8.6, “Battery Parameters,” by removing the Mode restrictions for performance of TS surveillance requirements (SRs) 3.8.4.3 and 3.8.6.6 for the Division 3 direct current (DC) electrical power subsystem battery. The Division 3 DC electrical power subsystem feeds emergency DC loads associated with the high pressure core spray (HPCS) system. Surveillance Requirement 3.8.4.3 verifies that the battery capacity is adequate for the battery to perform its required functions. Surveillance Requirement 3.8.6.6 verifies battery capacity is greater than or equal to (≥) 80 percent of the manufacturer's rating when subjected to a performance discharge test (or a modified performance discharge test). The proposed amendments would remove these Mode restrictions for the Division 3 battery, allowing performance of SRs 3.8.4.3 and 3.8.6.6 for the Division 3 battery during Mode 1 or 2, potentially minimizing impact on HPCS unavailability. Eliminating the requirement to perform SRs 3.8.4.3 and 3.8.6.6 only during Mode 3, 4, or 5 (hot shutdown, cold shutdown, or refueling conditions) will provide greater flexibility in scheduling Division 3 battery testing activities by allowing the testing to be performed during non-outage times.

• High Pressure Core Spray Diesel Generator Surveillance Testing

The proposed amendments would revise TS 3.8.1, “AC Sources-Operating,” by revising certain SRs pertaining to the Division 3 diesel generator (DG). The Division 3 DG is an independent source of onsite alternating current (AC) power dedicated to the HPCS system. The TSs currently prohibit performing the testing required by SRs 3.8.1.9, 3.8.1.10, 3.8.1.11, 3.8.1.12, 3.8.1.13, 3.8.1.16, 3.8.1.17, and 3.8.1.19, in Modes 1 or 2. The proposed amendments would remove these Mode restrictions and allow all eight of the identified SRs to be performed in any operating Mode for the Division 3 DG. The Mode restrictions will remain applicable to the other two safety-related (Division 1 and Division 2) DGs.

The proposed change will provide greater flexibility in scheduling Division 3 DG testing activities by allowing the testing to be performed during non-outage times. Having a completely tested Division 3 DG available for the duration of a refueling outage will reduce the number of system re-alignments and operator workload during an outage.

Basis for proposed no significant hazards consideration determination: As required by 10 CFR 50.91(a), the licensee has provided its analysis of the issue of no significant hazards consideration, which is presented below:

1. Does the proposed change involve a significant increase in the probability or consequences of an accident previously analyzed?

Response: No.

The Division 3 HPCS DG electrical power subsystem and its associated emergency loads are accident mitigating features, not accident initiators. Therefore, the proposed TS changes to allow the performance of certain Division 3 AC Sources surveillance testing in any plant operating Mode will not significantly impact the probability of any previously evaluated accident.

The design and function of plant equipment is not being modified by the proposed changes. Neither the battery test frequency nor the time that the TSs allow the HPCS system to be inoperable are being revised. Battery testing in accordance with the proposed TS changes will continue to verify that the Division 3 DC electrical power subsystem is capable of performing its required function of providing DC power to HPCS system equipment, consistent with the plant safety analyses. The battery testing will occur during a planned HPCS outage and therefore will not result in an increase in risk above the current work practices of planned HPCS system maintenance outages. Any risk associated with the testing of the Division 3 battery will be bounded and addressed with the risk associated with the HPCS system outage. In addition, the HPCS system reliability and availability are monitored and evaluated in relationship to Maintenance Rule goals to ensure that total outage times do not degrade operational safety over time.

Testing is limited to only one electrical division of equipment at a time to ensure that design basis requirements are met. Should a fault occur while testing the Division 3 battery, there would be no significant impact on any accident consequences since the other two divisional DC electrical power subsystems and their associated emergency loads would be available to provide the minimum safety functions necessary to shut down the unit and maintain it in a safety shutdown condition.

The Division 3 HPCS DG and its associated emergency loads are accident mitigating features, not accident initiators. Therefore, the proposed TS changes to allow the performance of Division 3 DG surveillance testing in any plant operating mode will not significantly impact the probability of any previously evaluated accident.

The design of plant equipment is not being modified by the proposed changes. As such, the ability of the Division 3 DG to respond to a design basis accident will not be adversely impacted by the proposed changes. The proposed changes to the TS surveillance testing requirements for the Division 3 DG do not affect the operability requirements for the DG, as verification of such operability will continue to be performed as required. Continued verification of operability supports the capability of the Division 3 DG to perform its required function of providing emergency power to HPCS system equipment, consistent with the plant safety analyses. Limiting testing to only one DG at a time ensures that design basis requirements are met. Should a fault occur while testing the Division 3 DG, there would be no significant impact on any accident consequences since the other two divisional DGs and associated emergency loads would be available to provide the minimum safety functions necessary to shut down the unit and maintain it in a safe shutdown condition.

Therefore, the proposed change does not result in a significant increase in the probability or consequences of an accident previously evaluated.

2. Does the proposed change create the possibility of a new or different kind of accident from any accident previously evaluated?

Response: No.

No changes are being made to the plant that would introduce any new accident causal mechanisms. Equipment will be operated in the same configuration with the exception of the plant operating mode in which the Division 3 battery and DG surveillance testing are conducted. Performance of these surveillance tests while online will continue to verify operability of the Division 3 battery and DG. The battery testing will potentially minimize the out-of-service time for the HPCS system. The proposed amendments do not impact any plant systems that are accident initiators and do not adversely impact any accident mitigating systems.

Therefore, the proposed changes do not create the possibility of a new or different kind of accident from any previously evaluated.

3. Does the proposed change involve a significant reduction in a margin of safety?

Response: No.

The proposed changes do not involve a significant reduction in the margin of safety.

Margin of safety is related to confidence in the ability of the fission product barriers (i.e., fuel cladding, reactor coolant system, and primary containment) to perform their design functions during and following postulated accidents. The proposed changes to the TS surveillance testing requirements for the Division 3 AC Sources and DG do not affect the operability requirements, as verification of such operability will continue to be performed as required. Continued verification of operability supports the capability of the Division 3 AC Sources and DG to perform the required functions of providing emergency power to HPCS system equipment, consistent with the plant safety analyses.

Consequently, the performance of the fission product barriers will not be adversely impacted by implementation of the proposed amendments. In addition, the proposed changes do not alter setpoints or limits established or assumed by the accident analysis.

The additional online unavailability of the HPCS system does not constitute a significant reduction in a margin of safety. The battery testing will be performed when the HPCS system is already out of service for a planned system outage and therefore the testing will not result in an increase in risk above the current work practices of planned system maintenance outages, as currently allowed by the TS.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: David J. Wrona.

Florida Power and Light Company, et al., Docket Nos. 50-335 and 50-389, St. Lucie Plant, Unit Nos.1 and 2, St. Lucie County, Florida

Date of amendment request: December 5, 2014; as supplemented by letters dated July 8 and July 22, 2016; February 25, 2017; and February 1, March 15, and June 7, 2018. Publicly-available versions are in ADAMS under Accession Nos. ML14353A016, ML16193A659, ML16208A061, ML17058A181, ML18032A614, ML18074A116, and ML18158A228, respectively.

Description of amendment request: The amendments would modify the Technical Specification (TS) requirements related to Completion Times for Required Actions to provide the option to calculate longer, risk-informed Completion Times. The amendments would also add a new program, the Risk Informed Completion Time (RICT) Program, to TS Section 6.0, “Administrative Controls.” The methodology for using the Risk Informed Completion Time Program is described in Nuclear Energy Institute (NEI) topical report NEI 06-09, “Risk-Informed Technical Specifications Initiative 4b, Risk-Managed Technical Specifications (RMTS) Guidelines,” Revision 0-A (ADAMS Accession No. ML12286A322), which was approved by the NRC on May 17, 2007. The license amendment request was originally noticed in the Federal Register on March 17, 2015 (80 FR 13908). The licensee originally proposed to adopt, with plant specific variations, Technical Specifications Task Force (TSTF) Traveler TSTF-505, Revision 1, “Provide Risk-Informed Extended Completion Times—RITSTF [Risk Informed TSTF] Initiative 4b” (Accession No. ML111650552). By letter dated November 15, 2016 (ADAMS Accession No. ML16281A021), the NRC staff informed the TSTF of its decision to suspend NRC approval of TSTF-505, Revision 1, because of concerns identified during the review of plant-specific license amendment requests for adoption of the traveler. The NRC staff's letter also stated that it would continue reviewing applications already received and site-specific proposals to address the staff's concerns. Although the scope of the amendment request has not changed, the basis for the amendments will no longer rely on TSTF-505. The notice is being reissued in its entirety to include the description of the amendment request and proposed no significant hazards consideration determination.

Basis for proposed no significant hazards consideration determination: As required by 10 CFR 50.91(a), the licensee has provided its analysis of the issue of no significant hazards consideration, which is presented below:

1. Does the proposed change involve a significant increase in the probability or consequences of an accident previously evaluated?

Response: No.

The proposed change permits the extension of Completion Times provided the associated risk is assessed and managed in accordance with the NRC[-]approved Risk Informed Completion Time Program. The proposed change does not involve a significant increase in the probability of an accident previously evaluated because the change involves no change to the plant or its modes of operation. The proposed change does not increase the consequences of an accident because the design-basis mitigation function of the affected systems is not changed and the consequences of an accident [occurring] during the extended Completion Time are no different from those [occurring] during the existing Completion Time.

2. Does the proposed change create the possibility of a new or different kind of accident from any accident previously evaluated?

Response: No.

The proposed change does not change the design, configuration, or method of operation of the plant. The proposed change does not involve a physical alteration of the plant (no new or different kind of equipment will be installed).

Therefore, the proposed change does not create the possibility of a new or different kind of accident from any accident previously evaluated.

3. Does the proposed change involve a significant reduction in a margin of safety?

Response: No.

The proposed change permits the extension of Completion Times provided risk is assessed and managed in accordance with the NRC[-]approved Risk Informed Completion Time Program. The proposed change implements a risk-informed configuration management program to assure that adequate margins of safety are maintained. Application of these new specifications and the configuration management program considers cumulative effects of multiple systems or components being out of service and does so more effectively than the current TS.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd. MS LAW/JB, Juno Beach, Florida 33408-0420.

NRC Acting Branch Chief: Booma Venkataraman.

Northern States Power Company (NSPM), Docket Nos. 50-282 and 50-306, Prairie Island Nuclear Generating Plant, Unit Nos. 1 and 2, (PINGP) Goodhue County, Minnesota

Date of amendment request: May 18, 2018. A publicly-available version is in ADAMS under Accession No. ML18138A402.

Brief description of amendment request: The proposed amendments would modify paragraph 2.C(4)(c) of the PINGP Renewed Facility Operating Licenses (RFOLs) which requires the implementation of modification to PINGP as described in Attachment S, Table S-2, of the PINGP license amendment request (LAR) dated December 14, 2016, to adopt the National Fire Protection Association Standard (NFPA) 805. Specifically, NSPM is requesting the deletion of five modifications from Table S-2 of the December 14, 2016, LAR.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment adds a reference to this letter to the PINGP, Units 1 and 2, RFOLs. The changes encompassed by this proposed amendment are to delete five modifications that are no longer needed from a risk perspective. The revision is based on five changes to Table S-2 proposed in this license amendment request (LAR). The proposed changes have been reviewed in the fire Probabilistic Risk Assessment (PRA) model approved as part of PINGP's transition to NFPA 805 and the results were found to be acceptable. Fire protection defense in depth and adequate safety margins are maintained with the changes proposed in this LAR.

The proposed change does not adversely affect accident initiators or precursors, nor alter the design assumptions, conditions, and configuration of the facility or the manner in which the plant is operated and maintained. The proposed changes do not adversely affect the ability of structures, systems and components (SSCs) to perform their intended safety function to mitigate the consequences of an initiating event within the assumed acceptance limits. The proposed change does not increase the probability or consequences of an accident as verified by the risk analysis performed.

Therefore, the proposed change does not involve a significant increase in the probability or consequences of an accident previously evaluated.

2. Does the proposed amendment create the possibility of a new or different kind of accident from any previously evaluated?

Response: No.

The proposed amendment adds a reference to this letter to the PINGP, Units 1 and 2, RFOLs. The changes encompassed by this proposed amendment are to delete five modifications that are no longer needed from a risk perspective. The revision is based on five changes to Table S-2 proposed in this LAR. The proposed changes have been reviewed in the fire PRA model approved as part of PINGP's transition to NFPA 805 and the results were found to be acceptable. Fire protection defense in depth and adequate safety margins are maintained with the changes proposed in this LAR.

The proposed changes will not result in any new or different kinds of accident from that previously evaluated because it does not change any precursors or equipment that is previously credited for accident mitigation.

Therefore, the proposed changes do not create the possibility of a new or different kind of accident from any accident previously evaluated.

3. Does the proposed amendment involve a significant reduction in a margin of safety?

Response: No.

The proposed amendment adds a reference to this letter to the PINGP, Units 1 and 2, RFOLs. The changes encompassed by this proposed amendment are to delete five modifications that are no longer needed from a risk perspective. The revision is based on five changes to Table S-2 proposed in this LAR. The proposed changes have been reviewed in the fire PRA model approved as part of PINGP's transition to NFPA 805 and the results were found to be acceptable. Fire protection defense in depth and adequate safety margins are maintained with the changes proposed in this LAR.

The proposed change does not adversely affect any SSCs credited for accident mitigation. The margins of safety previously evaluated are not significantly affected. The change does not affect the design function or capabilities of any plant systems.

Therefore, the proposed changes will not impact or reduce any margins of safety previously evaluated.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: David J. Wrona.

Northern States Power Company, Docket Nos. 50-282 and 50-306, Prairie Island Nuclear Generating Plant, Unit Nos. 1 and 2, (PINGP) Goodhue County, Minnesota

Date of amendment request: June 26, 2018. A publicly-available version is in ADAMS under Accession No. ML18177A450.

Brief description of amendment request: The proposed amendments would revise PINGP Technical Specifications (TSs) by eliminating second Completion Times limiting time from discovery of failure to meet a limiting condition for operation (LCO). These changes are consistent with NRC-approved Technical Specifications Task Force (TSTF) Traveler TSTF-439, Revision 2, “Eliminate Second Completion Times Limiting Time from Discovery of Failure to Meet an LCO.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change eliminates second Completion Times from the Technical Specifications. Completion Times are not an initiator to any accident previously evaluated. As a result, the probability of an accident previously evaluated is not affected. The consequences of an accident during the revised Completion Time are no different than the consequences of the same accident during the existing Completion Times. As a result, the consequences of an accident previously evaluated are not affected by this change. The proposed change does not alter or prevent the ability of SSCs [structures, systems, and components] from performing their intended function to mitigate the consequences of an initiating event within the assumed acceptance limits. The proposed change does not affect the source term, containment isolation, or radiological release assumptions used in evaluating the radiological consequences of an accident previously evaluated. Further, the proposed change does not increase the types or amounts of radioactive effluent that may be released offsite nor significantly increase individual or cumulative occupational/public radiation exposures. The proposed change is consistent with the safety analysis assumptions and resultant consequences.

Therefore, the proposed change does not involve a significant increase in the probability or consequences of an accident previously evaluated.

2. Does the proposed amendment create the possibility of a new or different kind of accident from any previously evaluated?

Response: No.

The proposed change does not involve a physical alteration of the plant (i.e., no new or different type of equipment will be installed) or a change in the methods governing normal plant operation. The proposed change does not alter any assumptions made in the safety analysis.

Therefore, the proposed changes do not create the possibility of a new or different kind of accident from any accident previously evaluated.

3. Does the proposed amendment involve a significant reduction in a margin of safety?

Response: No.

The proposed change to delete the second Completion Time does not alter the manner in which safety limits, limiting safety system settings, or limiting conditions for operation are determined. The safety analysis acceptance criteria are not affected by this change. The proposed change will not result in plant operation in a configuration outside of the design basis.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: David J. Wrona.

PSEG Nuclear LLC, Docket No. 50-354, Hope Creek Generating Station, Salem County, New Jersey

PSEG Nuclear LLC and Exelon Generation Company, LLC, Docket Nos. 50-272 and 50-311, Salem Nuclear Generating Station, Unit Nos. 1 and 2, Salem County, New Jersey

Date of amendment request: June 29, 2018. A publicly-available version is in ADAMS under Accession No. ML18183A343.

Description of amendment request: The amendments would revise technical specification (TS) requirements in Section 3/4.0, “Applicability,” regarding Limiting Condition for Operation (LCO) and Surveillance Requirement (SR) usage. These changes are consistent with NRC-approved Technical Specifications Task Force (TSTF) Traveler TSTF-529, “Clarify Use and Application Rules.”

Basis for proposed no significant hazards consideration determination: As required by 10 CFR 50.91(a), the licensee has provided its analysis of the issue of no significant hazards consideration, which is presented below:

1. Does the proposed change involve a significant increase in the probability or consequences of an accident previously evaluated?

Response: No.

The proposed changes to LCO 3.0.4 have no effect on the requirement for systems to be Operable and have no effect on the application of TS actions. The proposed change to SR 4.0.3 states that the allowance may only be used when there is a reasonable expectation the surveillance will be met when performed. Since the proposed changes do not significantly affect system Operability, the proposed changes will have no significant effect on the initiating events for accidents previously evaluated and will have no significant effect on the ability of the systems to mitigate accidents previously evaluated.

Therefore, it is concluded that this change does not involve a significant increase in the probability or consequences of an accident previously evaluated.

2. Does the proposed change create the possibility of a new or different kind of accident from any accident previously evaluated?

Response: No.

The proposed change to the TS usage rules does not affect the design or function of any plant systems. The proposed change does not change the Operability requirements for plant systems or the actions taken when plant systems are not operable.

Therefore, it is concluded that this change does not create the possibility of a new or different kind of accident from any accident previously evaluated.

3. Does the proposed change involve a significant reduction in a margin of safety?

Response: No.

The proposed change clarifies the application of LCO 3.0.4 and does not result in changes in plant operation. SR 4.0.3 is revised to allow application of SR 4.0.3 when an SR has not been previously performed and there is reasonable expectation that the SR will be met when performed. This expands the use of SR 4.0.3 while ensuring the affected system is capable of performing its safety function. As a result, plant safety is either improved or unaffected.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ryan K. Lighty, Morgan, Lewis & Bockius LLP, 1111 Pennsylvania Avenue NW, Washington, DC 20004-2541.

NRC Branch Chief: James G. Danna.

United States Maritime Administration (MARAD), Docket No. 50-238, Nuclear Ship SAVANNAH (NSS), Baltimore, Maryland

Date of amendment request: June 19, 2018. A publically-available version is in ADAMS under Accession No. ML18173A128.

Description of amendment request: The proposed amendment would revise Technical Specification (TS) Section 2.0, “Radioactive Releases,” from its original custom form to industry typical 10 CFR 50.36a TSs for effluents from nuclear power reactors.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment is administrative and does not involve modification of any plant equipment or affect basic plant operation. The proposed amendment revises all of Technical Specification Section 2.0, Radioactive Releases from its original custom form to typical 10 CFR 50.36a, Technical Specifications on effluents from nuclear power reactors that are consistent with those of plants in advanced stages of decommissioning. The proposed amendment also deletes three Technical Specifications whose requirements are included in STS-005-020, Offsite Dose Calculation Manual and therefore, are no longer necessary as standalone Technical Specifications. These three Technical Specifications include one associated with the annual report, one associated with area monitoring thermoluminescent dosimeters and one associated with environmental monitoring.

The NSS's reactor is not operational and the level of radioactivity in the NSS has significantly decreased from the levels that existed when the final shutdown was completed on November 8, 1970. No aspect of any of the proposed changes is an initiator of any accident previously evaluated. Consequently, the probability of an accident previously evaluated is not significantly increased.

Therefore, the proposed changes do not involve a significant increase in the probability or consequences of an accident previously evaluated.

2. Does the proposed amendment create the possibility of a new or different kind of accident from any accident previously evaluated?

Response: No.

All of the proposed changes are administrative and do not involve physical alteration of plant equipment that was not previously allowed by Technical Specifications. The proposed amendment revises all of Technical Specification Section 2.0, Radioactive Releases from its original custom form to typical 10 CFR 50.36a, Technical Specifications on effluents from nuclear power reactors that are consistent with those of plants in advanced stages of decommissioning. The proposed amendment also deletes three Technical Specifications whose requirements are included in STS-005-020, Offsite Dose Calculation Manual and therefore, are no longer necessary as standalone Technical Specifications. These three Technical Specifications include one associated with the annual report, one associated with area monitoring thermoluminescent dosimeters and one associated with environmental monitoring.

These proposed changes do not change the method by which any safety-related system performs its function given that all primary, auxiliary and secondary systems are deactivated, disabled and perform no active function. No new or different types of equipment will be installed, and the basic operation of installed equipment is unchanged. The methods governing plant operation and testing remain consistent with current safety analysis assumptions.

Therefore, the proposed changes do not create the possibility of a new or different kind of accident from any previously evaluated.

3. Does the change involve a significant reduction in a margin of safety?

Response: No.

All of the proposed changes are administrative in nature. The proposed amendment revises all of Technical Specification Section 2.0, Radioactive Releases from its original custom form to typical 10 CFR 50.36a, Technical Specifications on effluents from nuclear power reactors that are consistent with those of plants in advanced stages of decommissioning. The proposed amendment also deletes three Technical Specifications whose requirements are included in STS-005-020, Offsite Dose Calculation Manual and therefore, are no longer necessary as standalone Technical Specifications. These three Technical Specifications include one associated with the annual report, one associated with area monitoring thermoluminescent dosimeters and one associated with environmental monitoring.

No margins of safety exist that are relevant to the ship's defueled and partially dismantled reactor. As such, there are no changes being made to safety analysis assumptions, safety limits or safety system settings that would adversely affect plant safety as a result of the proposed changes.

As such, there are no changes being made to safety analysis assumptions, safety limits or safety system settings that would adversely affect plant safety or are relevant to the ship's defueled and partially dismantled reactor as a result of the proposed changes.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Advisor for licensee: Erhard W. Koehler, U.S. Department of Transportation, Maritime Administration, 1200 New Jersey Ave. SE, Washington, DC 20590.

NRC Branch Chief: Bruce Watson.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC and Exelon FitzPatrick, LLC, Docket No. 50-333, James A. FitzPatrick Nuclear Power Plant, Oswego County, New York

Date of amendment request: May 17, 2018. A publicly-available version is in ADAMS under Accession No. ML18137A418.

Brief description of amendment request: The proposed amendment would revise Technical Specifications 2.1.1, “Reactor Core SLs [safety limits]” to change Cycle 24 Safety Limit Minimum Critical Power Ratio (SLMCPR) numeric values resulting from SLMCPR analyses performed.

Date of publication of individual notice in Federal Register: July 13, 2018 (83 FR 32691).

Expiration date of individual notice: August 13, 2018 (public comments); September 11, 2018 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

DTE Electric Company, Docket No. 50-341, Fermi 2, Monroe County, Michigan

Date of amendment request: July 17, 2017, as supplemented by letter dated January 8, 2018.

Brief description of amendment: The amendment revised Fermi 2 Technical Specification (TS) 3.7.2, “Emergency Equipment Cooling Water (EECW)/Emergency Equipment Service Water (EESW) System and Ultimate Heat Sink (UHS).” Specifically, the amendment revised TS 3.7.2 conditions and surveillance requirements to reflect a proposed change to the design of the two redundant cross-tie lines that are part of the UHS.

Date of issuance: July 17, 2018.

Effective date: As of the date of issuance and shall be implemented within 120 days of issuance.

Amendment No.: 209. A publicly-available version is in ADAMS under Accession No. ML18144A064; documents related to this amendment are listed in the Safety Evaluation enclosed with the amendment.

Renewed Facility Operating License No. NPF-43: Amendment revised the Renewed Facility Operating License and Technical Specifications.

Date of initial notice in Federal Register: September 26, 2017 (82 FR 44850). The supplemental letter dated January 8, 2018, provided additional information that clarified the application, did not expand the scope of the application as originally noticed, and did not change the NRC staff's original proposed no significant hazards consideration determination as published in the Federal Register.

The Commission's related evaluation of the amendment is contained in a Safety Evaluation dated July 17, 2018.

No significant hazards consideration comments received: No.

Entergy Operations, Inc., Docket No. 50-382, Waterford Steam Electric Station, Unit No. 3, St. Charles Parish, Louisiana

Date of amendment request: November 28, 2017, as supplemented by letters dated December 7, 2017, and May 8, 2018.

Brief description of amendment: The amendment revised Section 4.3.3 of the Updated Final Safety Analysis Report to indicate that the RAPTOR-M3G code is used for reactor vessel fluence calculations. The use of the RAPTOR-M3G code meets the criteria present in Regulatory Guide (RG) 1.190, “Calculational and Dosimetry Methods for Determining Pressure Vessel Neutron Fluence,” dated March 2001.

Date of issuance: July 23, 2018.

Effective date: As of the date of issuance and shall be implemented 30 days from the date of issuance.

Amendment No.: 252. A publicly-available version is in ADAMS under Accession No. ML18180A298; documents related to this amendment are listed in the Safety Evaluation enclosed with the amendment.

Facility Operating License No. NPF-38: The amendment revised the Updated Final Safety Analysis Report.

Date of initial notice in Federal Register: January 16, 2018 (83 FR 2228). The supplement dated May 8, 2018, provided additional information that clarified the application, did not expand the scope of the application as originally noticed, and did not change the NRC staff's original proposed no significant hazards consideration determination as published in the Federal Register.

The Commission's related evaluation of the amendment is contained in a Safety Evaluation dated July 23, 2018.

No significant hazards consideration comments received: No.

Exelon Generation Company, LLC and Exelon FitzPatrick, LLC, Docket No. 50-333, James A. FitzPatrick Nuclear Power Plant, Oswego County, New York

Date of amendment request: September 14, 2017, as supplemented by letter dated March 15, 2018.

Brief description of amendment: The amendment revised Technical Specification (TS) 3.6.4.1, “Secondary Containment,” Surveillance Requirement (SR) 3.6.4.1.3. The SR is revised to address conditions during which the secondary containment pressure may not meet the SR pressure requirements.

Date of issuance: July 19, 2018.

Effective date: As of the date of issuance, and shall be implemented within 60 days.

Amendment No.: 319. A publicly-available version is in ADAMS under Accession No. ML18180A372; documents related to this amendment are listed in the Safety Evaluation enclosed with the amendment.

Renewed Facility Operating License No. DPR-59: The amendment revised the Renewed Facility Operating License and TSs.

Date of initial notice in Federal Register: November 7, 2017 (82 FR 51650). The supplemental letter dated March 15, 2018, provided additional information that clarified the application, did not expand the scope of the application as originally noticed, and did not change the NRC staff's original proposed no significant hazards consideration determination as published in the Federal Register.

The Commission's related evaluation of the amendment is contained in a Safety Evaluation dated July 19, 2018.

No significant hazards consideration comments received: No.

FirstEnergy Nuclear Operating Company, et al., Docket Nos. 50-334 and 50-412, Beaver Valley Power Station, Unit Nos. 1 and 2, Beaver County, Pennsylvania

FirstEnergy Nuclear Operating Company, et al., Docket No. 50-346, Davis-Besse Nuclear Power Station, Unit No. 1, Ottawa County, Ohio

FirstEnergy Nuclear Operating Company, et al., Docket No. 50-440, Perry Nuclear Power Plant, Unit No. 1, Lake County, Ohio

Date of amendment request: August 11, 2017.

Brief description of amendments: The amendments changed the respective technical specifications (TSs) as follows:

The changes revised Section 1.3, “Completion Times,” and Section 3.0, “LCO Applicability” of the TSs to clarify the use and application of the TS usage rules, as described below:

• Section 1.3 is revised to clarify “discovery” and to discuss exceptions to starting the Completion Time at condition entry.

• Limiting Condition for Operation (LCO) 3.0.4.b is revised to clarify that LCO 3.0.4.a, LCO 3.0.4.b, and LCO 3.0.4.c are independent options.

• Surveillance Requirement (SR) 3.0.3 is revised to allow application of SR 3.0.3 when an SR has not been previously performed and to clarify the application of SR 3.0.3.

The changes to the TSs are consistent with Technical Specifications Task Force (TSTF-529), Revision 4, “Clarify Use and Application Rules.” The NRC staff-issued safety evaluation for TSTF-529 was provided to the Technical Specifications Task Force in a letter dated April 21, 2016. This review included a review of the NRC staff's evaluation, as well as the information provided in TSTF-529.

Date of issuance: July 30, 2018.

Effective date: As of the date of issuance and shall be implemented within 90 days from the date of issuance.

Amendment Nos.: 303/192 (Beaver Valley Unit Nos. 1 and 2); 297 (Davis-Besse); and 182 (Perry). A publicly-available version is in ADAMS under Accession No. ML18179A467; documents related to these amendments are listed in the Safety Evaluation enclosed with the amendments.

Facility Operating License Nos. DPR-66, NPF-73, NPF-3, and NPF-58: The amendments revised the Licenses and Technical Specifications.

Date of initial notice in Federal Register: November 7, 2017 (82 FR 51651).

The Commission's related evaluation of the amendments is contained in a Safety Evaluation dated July 30, 2018.

No significant hazards consideration comments received: No.

Southern Nuclear Operating Company, Docket Nos. 52-025 and 52-026, Vogtle Electric Generating Plant, Unit Nos. 3 and 4, Burke County, Georgia

Date of amendment request: January 31, 2018.

Description of amendment: The amendments included changes to Combined License Appendix A, Technical Specifications (TSs) related to fuel management. Specifically, the amendments proposed improvements to the TSs for the Rod Position Indication, the Control Rod Drive Mechanism, Power Range Neutron Flux Channels and the Mechanical Shim Augmentation.

Date of issuance: July 19, 2018.

Effective date: As of the date of issuance and shall be implemented within 30 days of issuance.

Amendment Nos.: 134 (Unit 3) and 133 (Unit 4). A publicly-available version is in ADAMS under Accession No. ML18082B374; documents related to this amendment are listed in the Safety Evaluation enclosed with the amendment.

Facility Combined Licenses No. NPF-91 and NPF-92: Amendments revised the Facility Combined Licenses.

Date of initial notice in Federal Register: February 27, 2018 (83 FR 8509).

The Commission's related evaluation of the amendments is contained in the Safety Evaluation dated July 19, 2018.

No significant hazards consideration comments received: No.

Southern Nuclear Operating Company, Inc., Docket Nos. 50-348 and 50-364, Joseph M. Farley Nuclear Plant (Farley), Unit Nos. 1 and 2, Houston County, Alabama

Southern Nuclear Operating Company, Inc., Docket Nos. 50-321 and 50-366, Edwin I. Hatch Nuclear Plant (Hatch), Unit Nos. 1 and 2, City of Dalton, Georgia

Southern Nuclear Operating Company, Inc., (SNC) Docket Nos. 50-424, 50-425, 52-025, 52-026, Vogtle Electric Generating Plant (Vogtle), Unit Nos. 1, 2, 3, and 4, Burke County, Georgia

Date of amendment request: August 30, 2017.

Brief description of amendments: The amendments relocated the emergency operations facility for the eight units of the SNC nuclear fleet from the SNC corporate headquarters in Birmingham, Alabama, to a new location 1.3 miles away.

Date of issuance: July 26, 2018.

Effective date: As of the date of issuance and shall be implemented 180 days of issuance.

Amendment Nos.: 220 (Farley, Unit 1), 217 (Farley, Unit 2), 291 (Hatch, Unit 1), 236 (Hatch, Unit 2), 195 (Vogtle, Unit 1), 178 (Vogtle, Unit 2), 136 (Vogtle, Unit 3), and 135 (Vogtle, Unit 4). A publicly-available version is in ADAMS under Accession No. ML18183A073; documents related to these amendments are listed in the Safety Evaluation enclosed with the amendments.

Facility Operating License Nos. NPF-2. NPF-8, DPR-57, NPF-5, NPF-68, NPF-81, NPF-91, and NPF-92: Amendments revised the Facility Operating Licenses.

Date of initial notice in Federal Register: October 10, 2017 (82 FR 47038).

The Commission's related evaluation of the amendments is contained in a Safety Evaluation dated July 26, 2018.

No significant hazards consideration comments received: No.

STP Nuclear Operating Company, Docket Nos. 50-498 and 50-499, South Texas Project, Unit Nos. 1 and 2, Matagorda County, Texas

Date of amendment request: July 31, 2017, as supplemented by letter dated February 12, 2018.

Brief description of amendment: The amendments revised the South Texas Project Electric Generating Station Emergency Plan to change the emergency response organization (ERO) staffing composition and increase the staff augmentation times for certain ERO positions from the time of declaration of an Alert or higher emergency classification level. The changes also include formatting, clarification, and editorial modifications.

Date of issuance: July 19, 2018.

Effective date: As of the date of issuance and shall be implemented within 9 months from the date of issuance.

Amendment Nos.: 214 (Unit 1) and 200 (Unit 2). A publicly-available version is in ADAMS under Accession No. ML18159A212; documents related to these amendments are listed in the Safety Evaluation enclosed with the amendments.

Renewed Facility Operating License Nos. NPF-76 and NPF-80: The amendments revised the Site Emergency Plan.

Date of initial notice in Federal Register: September 12, 2017 (82 FR 42855). The supplemental letter dated February 12, 2018, provided additional information that clarified the application, did not expand the scope of the application as originally noticed, and did not change the NRC staff's original proposed no significant hazards consideration determination as published in the Federal Register.

The Commission's related evaluation of the amendments is contained in a Safety Evaluation dated July 19, 2018.

No significant hazards consideration comments received: No.

Virginia Electric and Power Company, Docket Nos. 50-338 and 50-339, North Anna Power Station, Units Nos. 1 and 2, Louisa County, Virginia

Date of amendment request: May 2, 2017, as supplemented by letters dated July 19, 2017, and January 31, 2018.

Brief description of amendments: The amendments revised North Anna Power Station (NAPS) Technical Specification (TS) 3.7.18, “Spent Fuel Pool Storage,” and TS 4.3.1, “Criticality,” to allow the storage of fuel assemblies with a maximum enrichment of up to 5.0 weight percent uranium 235 in the NAPS spent fuel pool storage racks and the New Fuel Storage Area. The amendments further revised the allowable fuel assembly parameters and fuel storage patterns in the spent fuel pool.

Date of issuance: July 27, 2018.

Effective date: As of the date of issuance and shall be implemented within 180 days of issuance.

Amendment Nos.: 279 (Unit 1) and 262 (Unit 2). A publicly-available version is in ADAMS under Accession No. ML18180A197; documents related to these amendments are listed in the Safety Evaluation enclosed with the amendments.

Renewed Facility Operating License Nos. NPF-4 and NPF-7: Amendments revised the Renewed Facility Operating Licenses and Technical Specifications.

Date of initial notice in Federal Register: March 6, 2018 (83 FR 9553). The supplemental letters dated July 19, 2017, and January 31, 2018, provided additional information that clarified the application, did not expand the scope of the application as originally noticed, and did not change the NRC staff's original proposed no significant hazards consideration determination as published in the Federal Register.

The Commission's related evaluation of the amendment is contained in a Safety Evaluation dated July 27, 2018.

No significant hazards consideration comments received: No.

Dated at Rockville, Maryland, this 7th day of August, 2018.
For the Nuclear Regulatory Commission.
Kathryn M. Brock,
Deputy Director, Division of Operating Reactor Licensing, Office of Nuclear Reactor Regulation.

[FR Doc. 2018-17132 Filed 8-13-18; 8:45 am]

BILLING CODE 7590-01-P